DEPARTMENT OF AGRICULTURE

Rural Business-Cooperative Service

Rural Housing Service

Rural Utilities Service

Farm Bill: Strategic Economic and Community Development—Reservation of Fiscal Year 2016 Program Funds

AGENCY: Rural Business-Cooperative Service, Rural Housing Service, Rural Utilities Service, USDA.

ACTION: Notice.

SUMMARY: Section 6025 of the Agricultural Act of 2014 (2014 Farm Bill) provides the Secretary of Agriculture the authority to give priority to projects that support strategic economic development or community development plans. The Agency has the authority to reserve funds for those programs (referred to as the “underlying programs”) included in 7 CFR part 1980, subpart K, Strategic Economic and Community Development (SECD), for projects that support multi-jurisdictional strategic economic and community development plans. This notice identifies for fiscal year 2016 the underlying programs from which funds will be reserved for Section 6025 SECD requirements. Those programs are listed in the SUPPLEMENTARY INFORMATION section.

DATES: Effective Date: October 1, 2015.

FOR FURTHER INFORMATION CONTACT: For more information, please contact your respective Rural Development State Office listed here: http://www.rd.usda.gov/browse-state. A checklist of all required application information for Section 6025 SECD can be found at: http://www.rd.usda.gov/programs-services/strategic-economic-and-community-development.

For all other inquiries, contact Regional Community Economic Development Coordinators as follows:

• Midwest Region—Christine Sorensen: 202-568-9832, Christine.Sorensen@wdc.usda.gov.

• Northeast Region—Angela Callie: 610-791-9810 ext. 123, Angela.Callie@wdc.usda.gov.

• Southern Region—Greg Dale: (870) 633-3055 Ext. 123, Gregory.Dale@wdc.usda.gov.

• National Office—Farah Ahmad, Program Manager: Rural Business-Cooperative Service, U.S. Department of Agriculture, Stop 3254, 1400 Independence Avenue SW., Washington, DC 20250-0783, Email: RDCED@wdc.usda.gov.

SUPPLEMENTARY INFORMATION: This action has been reviewed and determined not to be a rule or regulation as defined in Executive Order 12866, as amended by Executive Order 13258.

As provided for in 7 CFR 1980.1004, this notice identifies for fiscal year 2016 the underlying programs from which funds will be reserved for Section 6025 SECD requirements. The following table specifies the level of program funding allocations from which the Section 6025 SECD reserved funds will be drawn, and the percentage of funds being reserved from the underlying program funding allocations.

Program | Level of funding allocations | Percentage of funds reserved for section 6025
Community Facility Loans (7 CFR part 1942, subpart A) | State | 5 percent.
Fire and Rescue and Other Small Community Facilities Projects (7 CFR part 1942, subpart C) | State | 5 percent.
Community Facilities Grant Program (7 CFR part 3570, subpart B) | State | 10 percent.
Community Programs Guaranteed Loans (7 CFR part 3575, subpart A) | National | 10 percent.
Water and Waste Disposal Programs Guaranteed Loans (7 CFR part 1779) | National | 10 percent.
Water and Waste Loans and Grants (7 CFR part 1780, subparts A, B, C, and D) | National | 10 percent loan; 5 percent grant.
Business and Industry Guaranteed Loanmaking and Servicing (7 CFR part 4279, subparts A and B; 7 CFR part 4287, subpart B) | National | 5 percent.
Rural Business Development Grants (7 CFR part 4280, subpart E) | State | 5 percent.

The U.S. Department of Agriculture remains committed to assisting high-poverty communities as one of its strategic priorities. The programs listed above consider poverty-related criteria in its application requirements. For this reason, Section 6025 offers an incentive for high poverty communities to have increased access to these programs so long as they have eligible projects that support the implementation of a multi-jurisdictional plan. This is particularly beneficial for areas such as Promise Zones, the Delta, Appalachia, Colonias, and other rural places with persistent poverty issues.

If submitting projects for consideration for the underlying program's Section 6025 SECD reserved funds, applicants must (1) meet the eligibility requirements of the underlying program based on its annual notice, policies and/or regulations, including application deadlines; (2) meet the eligibility requirements of Section 6025 SECD in accordance with this Notice and 7 CFR part 1980, subpart K; and (3) submit Form RD 1980-88 and supporting documentation. Applicants are encouraged to submit Form RD 1980-88 and supporting documentation concurrent with the application for the underlying program for which the applicant is applying, in an effort to avoid improper or duplicative awards to recipients as required by law. Rural Development will work with programs to ensure the review process is compliant and consistent with Section 6025 SECD regulation.

All of the underlying program's reserves for Section 6025 SECD competition must be obligated by the Agency no later than June 30, 2016. As provided for in 7 CFR 1980.1004(c), the Agency will return any reserved funds that are not obligated by June 30, 2016, to the underlying program's regular funding account for obligation to all eligible projects in that program. After June 30, 2016, any project that supports a multi-jurisdictional strategic economic and community development plan may be competed with all other projects within the applicable underlying program for the remainder of FY 2016, but without the benefit of any mandated priority points and access to reserved funds available under 7 CFR part 1980, subpart K.

This notice establishes the listed percentages of funds reserved for Section 6025 and is effective October 1, 2015 for the entirety of FY 2016 and the entirety of each succeeding fiscal year unless changed in accordance with 7 CFR 1980.1004(b).

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

1. Mail: U.S. Department of Agriculture, Office of the Assistant Secretary for Civil Rights, 1400 Independence Avenue SW., Washington, DC 20250-9410;

2. Fax: (202) 690-7442; or

3. Email: program.intake@usda.gov.

USDA is an equal opportunity provider, employer, and lender.

Dated: March 3, 2016.
Lisa Mensah,
Under Secretary, Rural Development.

[FR Doc. 2016-06035 Filed 3-16-16; 8:45 am]

BILLING CODE 3410-XY-P